DEPARTMENT OF ENERGY

Federal Energy Regulatory Commission

[Docket No. ER00-3283-000]

Arizona Public Service Company; Notice of Filing

August 2, 2000.

Take notice that on July 26, 2000, Arizona Public Service Company (APS), tendered for filing revised Exhibits A and C to APS' FERC Rate Schedule No. 225 between APS and Citizens Utilities Company (Citizens).

Current rate levels are unaffected, revenue levels are unchanged from those currently on file with the Commission, an not other significant change in service to these or any other customer results from the revisions proposed herein. No new or modifications to existing facilities are required as a results of these revisions.

Copies of this filing have been served on Citizens and the Arizona Corporation Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-19971 Filed 8-7-00; 8:45 am]

BILLING CODE 6717-01-M